DEPARTMENT OF COMMERCE

National Oceanic and Atmospheric Administration

[I.D.080806E]

Endangered and Threatened Species; Recovery Plans

AGENCY: National Marine Fisheries Service (NMFS), National Oceanic and Atmospheric Administration, Commerce.

ACTION: Notice of Availability; request for comments.

SUMMARY: The National Marine Fisheries Service (NMFS) announces the availability of a proposed Hood Canal Summer Chum Salmon Recovery Plan (Plan) for the Evolutionarily Significant Unit (ESU) of Hood Canal and Eastern Strait of Juan de Fuca Summer Chum Salmon (Oncorhynchus keta) for public review. This proposed Recovery Plan consists of the Hood Canal and Eastern Strait of Juan de Fuca Summer Chum Salmon Recovery Plan prepared by the Hood Canal Coordinating Council (the HCCC Plan) and a NMFS Supplement to the HCCC Plan. NMFS is soliciting review and comment on the proposed Plan from the public and all interested parties.

DATES: NMFS will consider and address all substantive comments received during the comment period. Comments must be received no later than 5 p.m. Pacific Daylight Time on October 16, 2006.

ADDRESSES: Please send written comments and materials to Elizabeth Babcock, National Marine Fisheries Service, Salmon Recovery Division, 7600 Sandpoint Way N.E. Seattle, WA 98115. Comments may also be submitted by e-mail to: HCsalmonplan@noaa.gov. Include in the subject line of the e-mail comment the following identifier: Comments on Hood Canal Salmon Plan. Comments may also be submitted via facsimile (fax) to 206-526-6426.

Persons wishing to review the Plan can obtain an electronic copy (i.e., CD-ROM) from Carol Joyce by calling 503-230-5408 or by e-mailing a request to carol.joyce@noaa.gov, with the subject line “CD-ROM Request for Hood Canal Salmon Plan”. Electronic copies of the Plan are also available on-line on the Hood Canal Coordinating Council Web site, www.hccc.wa.gov/. A description of previous public and scientific review, including scientific peer review, can be found in the NMFS Supplement to the Plan.

FOR FURTHER INFORMATION CONTACT: Elizabeth Babcock, NMFS Puget Sound Salmon Recovery Coordinator, at 206-526-4505, or Elizabeth Gaar, NMFS Salmon Recovery Division, at 503-230-5434.

SUPPLEMENTARY INFORMATION:

Background

Recovery plans describe actions considered necessary for the conservation and recovery of species listed under the Endangered Species Act of 1973 (ESA), as amended (16 U.S.C. 1531 et seq.). The ESA requires that recovery plans incorporate: (1) objective, measurable criteria which, when met, would result in a determination that the species is no longer threatened or endangered; (2) site-specific management actions necessary to achieve the plan's goals; and (3) estimates of the time required and costs to implement recovery actions. The ESA requires the development of recovery plans for listed species unless such a plan would not promote the recovery of a particular species.

NMFS' goal is to restore endangered and threatened Pacific salmon ESUs to the point where they are again secure, self-sustaining members of their ecosystems and no longer need the protections of the ESA. NMFS believes it is critically important to base its recovery plans on the many state, regional, tribal, local, and private conservation efforts already underway throughout the region. The agency's approach to recovery planning has been to support and participate in locally led collaborative efforts involving local communities, state, tribal, and Federal entities, and other stakeholders to develop recovery plans. As the lead ESA agency for listed salmon, NMFS is responsible for reviewing these locally produced recovery plans and deciding whether adoption is merited.

On November 15, 2005, the Hood Canal Coordinating Council (HCCC), a regional council of governments, presented its locally developed listed species recovery plan (Plan) to NMFS. The HCCC is a watershed-based council of governments that was established in 1985 in response to concerns about water quality problems and related natural resource issues in the watershed. It was incorporated in 2000 as a 501(c)3, Public Benefit Corporation under RCW 24.03. Its board of directors includes the county commissioners from Jefferson, Kitsap, and Mason counties, and elected tribal council members from the Skokomish and Port Gamble S'Klallam Tribes. It also includes a slate of ex-officio board members composed of representatives from state and Federal agencies.

After review of the Plan, NMFS has added a Supplement, which describes how the Plan satisfies ESA recovery plan requirements, including qualifications and additional actions that NMFS believes are necessary to support recovery, and describes the agency's intent to use the Plan as an ESA recovery plan for the Hood Canal Summer Chum ESU. The Plan, including the Supplement, which together constitute NMFS' proposed recovery plan for Hood Canal summer chum, is now available for public review and comment. As noted above, it is available at the Hood Canal Coordinating Council Web site, www.hccc.wa.gov/, and at the NMFS Northwest Region Salmon Recovery Division Web site, www.nwr.noaa.gov/Salmon-Recovery-Planning/index.cfm. NMFS will consider all substantive comments and information presented during the public comment period (see DATES).

By endorsing a locally developed recovery plan, NMFS is making a commitment to implement the actions in the Plan for which it has authority, to work cooperatively on implementation of other actions, and to encourage other Federal agencies to implement plan actions for which they have responsibility and authority. NMFS will also encourage the State of Washington to seek similar implementation commitments from state agencies and local governments. NMFS expects the Plan to help NMFS and other Federal agencies take a more consistent approach to future ESA section 7 consultations. For example, the Plan will provide greater biological context for the effects that a proposed action may have on the listed ESU. This context will be enhanced by adding recovery plan science to the “best available information” for section 7 consultations. Such information includes: viability criteria for the ESU and its independent populations; better understanding of and information on limiting factors and threats facing the ESU; better information on priority areas for addressing specific limiting factors; and better geographic context for where the ESU can tolerate varying levels of risk.

ESUs Addressed and Planning Area

The Plan covers the range of the Hood Canal summer-run chum salmon ESU (Oncorhynchus keta), listed as threatened on March 25, 1999 (64 FR 14508). NMFS reviewed the ESU in 2005 and determined that it still warranted ESA protection (Good et al., 2005). The range of the Hood Canal summer chum is the northeastern portion of the Olympic Peninsula in Washington State. The ESU includes summer-run chum salmon populations that spawn naturally in tributaries to Hood Canal as well as in Olympic Peninsula rivers between Hood Canal and Dungeness Bay. The recovery planning area includes portions of the Washington counties of Jefferson, Mason, Kitsap, and Clallam; the reservations of the Skokomish, Port Gamble S'Klallam, and Jamestown S'Klallam Tribes; and portions of Water Resource Inventory Areas (WRIAs) 14, 15, 16, 17, and 18.

The Plan focuses on the recovery of Hood Canal summer chum salmon. Two other ESA-listed salmonid species, Puget Sound Chinook salmon and Coastal/Puget Sound bull trout, are indigenous to the Hood Canal and eastern Strait of Juan de Fuca regions encompassed by the Plan. The Shared Strategy for Puget Sound, a nonprofit organization that coordinates recovery planning for Puget Sound Chinook, submitted a recovery plan for Puget Sound Chinook salmon to NMFS and on December 27, 2005, NMFS published a Notice of Availability of the Shared Strategy plan as a proposed recovery plan for Puget Sound Chinook (70 FR 76445). Coastal/Puget Sound bull trout are under the jurisdiction of the U.S. Fish and Wildlife Service (USFWS), and are the subject of a recovery plan published by the USFWS in May 2004. Many of the actions identified in the Hood Canal summer chum plan will also benefit the latter two species. The Shared Strategy and Hood Canal Coordinating Council will work together to make their respective recovery efforts consistent and complementary.

The Plan

The Plan is one of many ongoing salmon recovery planning efforts funded under the Washington State Strategy for Salmon Recovery. The State of Washington designated HCCC as the Lead Entity for salmon recovery planning for the Hood Canal watershed. The HCCC has included extensive public involvement in its recovery planning process.

The Plan draws extensively on the research and publications of the Summer Chum Salmon Conservation Initiative (SCSCI) (WDFW and PNPTT 2000). The SCSCI process, initiated in 2000, is an ongoing planning forum and mechanism by which the Hood Canal fisheries co-managers are engaged in the development and implementation of harvest management regimes and supplementation programs designed to bring about the recovery of summer chum salmon. The co-managers directly responsible for fisheries harvest and hatchery management for the Hood Canal and the eastern Strait of Juan de Fuca watersheds are the Point No Point Treaty Tribes (PNPTT) (Skokomish, Port Gamble S'Klallam, Jamestown S'Klallam, and Lower Elwha Klallam), which have Treaty rights to usual and accustomed fishing in this area, and the Washington State Department of Fish and Wildlife (WDFW). These regimes and programs are designed to provide opportunities for the recovery of summer chum salmon when integrated with aspects of habitat protection and restoration, also considered in the process. Annual reviews are documented in supplemental reports (e.g., WDFW and PNPTT 2003 and PNPTT and WDFW 2003), which can be found at wdfw.wa.gov/fish/chum/chum.htm.

The HCCC Plan makes extensive use of the SCSCI and subsequent supplemental reports, as well as the watershed plans for WRIAs 14, 15, 16, 17, and 18 (Correa 2002; Correa, 2003; Kuttel, 2003). The fishery co-managers, WDFW and PNPTT, participated in the development of aspects of this Plan, and it is designed to support and complement the co-managers' fisheries and interim salmon recovery goals and objectives.

As in other regional domains defined by NMFS Northwest Region, the Hood Canal planning effort was supported by a NMFS-appointed science panel, the Puget Sound Technical Recovery Team (PSTRT). This panel of seven scientific experts from Federal, state, local, and tribal organizations identified historical populations, recommended ESU viability criteria, and provided scientific review of the Plan. In addition, staff biologists of the Skokomish and Port Gamble S'Klallam Tribes reviewed the Plan at each stage, and County staff reviewed the land use planning sections. NMFS Northwest Region staff biologists also reviewed draft versions of the Plan and provided substantial guidance for revisions.

The Plan incorporates the NMFS viable salmonid population (VSP) framework as a basis for biological status assessments and recovery goals for Hood Canal summer chum salmon, and the Supplement incorporates the most recent work of the PSTRT on viability criteria for this ESU.

The PSTRT identified two independent populations of Hood Canal summer chum. The Strait of Juan de Fuca population spawns in rivers and streams entering the eastern Strait and Admiralty Inlet. The Hood Canal population includes all spawning aggregations within the Hood Canal catchment (Ruckelshaus et al., 2006).

Sixteen historically present “stocks” made up the Hood Canal summer chum salmon, of which eight are extant. The co-managers identified these stocks in the SCSCI and subsequent supplemental reports (WDFW and PNPTT 2000, 2003). The PSTRT considers these stocks “subpopulations, which contribute to either the Hood Canal or Strait of Juan de Fuca population, depending on their geographical location” (Currens, 2004, p. 19). As noted in the Plan, the PSTRT report stated that summer chum salmon in the Hood Canal and eastern Strait are probably “a single metapopulation held together historically by a stepping stone pattern of demographic exchange” (Currens, ibid.), created by straying between adjacent streams.

For planning purposes, the Plan assigned the 16 stocks to six geographic groupings called “conservation units.” The Plan organizes descriptions of population status, limiting factors and threats, and recommended site-specific actions based on these conservation units.

Causes for Decline

The Plan identifies the main causes for the decline of the Hood Canal summer chum as fishery exploitation/harvest and cumulative habitat loss.

Harvest: The Plan draws upon data and conclusions from the SCSCI indicating that harvest (including U.S. and Canada fisheries) was a factor in the decline of summer chum salmon prior to 1992. Exploitation rates ranging from 21 percent for the Salmon/Snow and Jimmycomelately populations to 90 percent for the Quilcene population were seen to correlate with declines in escapements. Under the SCSCI, as adopted by the recovery plan, total exploitation rates are expected to average 10.8 percent and 8.8 percent for the Hood Canal and Strait of Juan de Fuca populations, respectively. However, recent exploitation rates have been lower, generally below 3 percent and 1 percent for Hood Canal and Strait of Juan de Fuca populations, respectively.

Habitat: Chapter 6 of the Plan summarizes overall habitat issues for the ESU. More detail is included in the Plan's individual chapters on conservation units. NMFS' 2005 Report to Congress on the Pacific Coastal Salmon Recovery Fund (PCSRF) described habitat-related factors for decline as the following: (1) degraded floodplain and mainstem river channel structure; (2) degraded estuarine conditions and loss of estuarine habitat; (3) riparian area degradation and loss of in-river large woody debris in mainstem; (4) excessive sediment in spawning gravels; (5) reduced stream flow in migration areas; (6) degraded nearshore conditions. These factors are all covered in detail in the Plan.

Recovery Goals and Strategy

The Plan provides a strategy to achieve its overall goal of recovery and delisting of the summer-run chum salmon in Hood Canal and the eastern Strait of Juan de Fuca. The Plan's recovery strategy focuses on habitat actions and incorporates the co-managers' harvest management and hatchery supplementation programs that are ongoing as part of the SCSCI.

The Plan adopts “interim” (for the next 10 years) recovery goals developed by the co-managers in the SCSCI (PNPTT and WDFW 2003) for each of the stocks that make up the two extant summer chum populations. The PSTRT provided its recommendations for viability criteria for the two populations that make up the ESU; these criteria describe characteristics predicted to result in a negligible risk of extinction for the ESU in the long term (100 years). NMFS has asked the PSTRT to continue to work with HCCC staff and the co-managers to integrate these long-term criteria for the ESU with the interim recovery goals for the component stocks described in the Plan. This will not necessitate a revision of the Plan but will be considered part of the adaptive management and implementation phase of the recovery plan.

The co-managers set interim stock-level recovery goals in terms of abundance, escapement, productivity, and diversity of natural-origin recruits. The co-managers' interim ESU-wide recovery criterion is for all eight of the extant stocks to meet all the individual stock recovery goals. The Plan addresses the VSP parameter of life history and genetic diversity through habitat protection and restoration actions encompassing the entire geographic extent of the ESU, and reintroduction of natural-origin summer chum aggregations to several streams where they were historically present.

Management Actions

The Plan lists potential sources of funding, administrative paths, and target activities that could be undertaken for salmon recovery in the region (pp. 43-45), then makes site-specific recommendations based on conservation units (Chapters 7-12). A full range of policy options for acquiring, funneling, and allocating resources for salmon habitat conservation was developed and presented to the members of the HCCC Board for review and decision-making.

Habitat: The first priority level of recovery would focus on the eight extant stocks' watersheds and associated marine areas (nearshore areas within a one-mile radius of the watershed's estuary). The second priority level of recovery adds the eight extirpated stocks' watersheds and associated marine areas (nearshore areas within one mile radius of the watershed's estuary). The HCCC provided a summary table for the Supplement, linking limiting factors and recommended actions by conservation unit and stock.

Harvest: The co-managers developed, through the SCSCI, a harvest management strategy called the Base Conservation Regime (BCR) (details in WDFW and PNPTT 2000, section 3.5.6.1). The intent of the BCR is to initiate rebuilding, by fostering incremental increases in escapement over time, while providing a limited opportunity for fisheries conducted for the harvest of other salmon species. The BCR will pass through to spawning escapement, on average, in excess of 95 percent of the Hood Canal-Strait of Juan de Fuca summer chum salmon abundance in U.S. waters.

The harvest management component of the SCSCI was provided to NMFS in 2000 as the co-managers' proposed joint Resource Management Plan (RMP) for managing salmon fisheries to meet summer chum salmon ESA conservation needs. NMFS subsequently determined that the RMP adequately addressed all requirements specified under Limit 6 of the ESA 4(d) Rule for Hood Canal summer chum salmon (66 FR 31600, June 12, 2001). More information can be found at www.nwr.noaa.gov/Salmon-Harvest-Hatcheries/State-Tribal-Management/HC-Chum-RMP.cfm. NMFS and the co-managers will continue to evaluate the performance of the harvest management strategy as new information becomes available, consistent with the evaluation and adaptive management elements of the SCSCI and the Plan.

Hatcheries: The Plan incorporates the supplementation and reintroduction approach implemented by the co-managers under the SCSCI beginning in 1992 to conserve summer chum salmon in the action area. Under the SCSCI, artificial production directed at summer chum recovery would be applied only to preserve stocks identified as at moderate or high risk of extinction, and to reintroduce naturally spawning aggregations in selected watersheds where the indigenous stocks had become extirpated. In addition, implementation of conservation hatchery actions was guided by these premises: “Commensurate, timely improvements in the condition of habitat critical for summer chum salmon survival are necessary to recover the listed populations to healthy levels. . . The intent of the supplementation efforts is to reduce the short-term extinction risk to existing wild populations, and to increase the likelihood of their recovery” (the Plan, p. 54).

NMFS agrees with the PSTRT's conclusion in its 2005 review of the Plan that the hatchery strategy to supplement summer chum in Hood Canal is very well designed and has been well implemented throughout its tenure. The monitoring information resulting from the hatchery program is exemplary, and the co-managers have used the data to adjust their supplementation strategies as needed.

Time and Cost Estimates

The ESA section 4(f)(1) requires that the recovery plan include “estimates of the time required and the cost to carry out those measures needed to achieve the Plan's goal and to achieve intermediate steps toward that goal” (16 U.S.C. 1533(f)(1)). Appendix D of the recovery plan (Costing of the Hood Canal Coordinating Council's Summer Chum salmon Recovery Plan, August 2004) provides cost estimates to carry out specific recovery actions for the first 10 years of plan implementation. The cost estimates cover all capital projects judged to be feasible in the six conservation units, and non-capital work projected to occur over the 10-year period.

The plan estimates that recovery of the Hood Canal Summer Chum ESU could take 50 to 100 years. NMFS supports the policy determination to focus on the first 10 years of implementation, with the proviso that specific actions and costs will be estimated before the end of this first implementation period for subsequent years to achieve long-term goals, and to proceed until a determination is made that listing is no longer necessary. Because of the impracticability of estimating all actions and costs over 50 to 100 years, NMFS agrees that 10 years is a reasonable period of time during which to implement and evaluate the actions identified in the Plan to gain a preliminary view of the status and trends of important recovery indicators and make mid-course corrections as needed.

Adaptive Management

The Plan has extensive provisions for monitoring, evaluation, and adaptive management. In addition, the HCCC is developing a more detailed monitoring and adaptive management plan to be in place by December 2006 as part of the overall implementation program. NMFS believes the adaptive management and monitoring element of the Plan is adequate.

Implementation

Implementation of the Plan is designed to ultimately achieve goals for the four VSP criteria of abundance, productivity, diversity, and spatial structure. The PSTRT will continue its collaborative work with the co-managers to integrate and refine the interim goals and long-term criteria for abundance and productivity. The PSTRT has generally described diversity and spatial structure criteria; NMFS expects that management objectives for diversity and spatial structure will be further refined over the next several years as part of recovery plan implementation. As these objectives are refined, the recovery plan and resource management plans will incorporate both the objectives and analyses of the effectiveness of the plans in meeting all four VSP objectives based on information gathered through the adaptive management programs.

NMFS concludes that the Plan makes substantial progress toward defining objective and measurable criteria that, when met, would result in a determination that the species be removed from the list. It is understood that additional work will be done to refine and complete ESU-level viability criteria and to reconcile the interim stock-level goals accordingly. Based on this work, NMFS will confirm final delisting criteria in the final Federal Register notice for this recovery plan.

In accordance with its responsibilities under section 4(c)(2) of the Act, NMFS will conduct status reviews of Hood Canal chum salmon once every five years to evaluate the ESU's status and determine whether the ESU should be removed from the list or changed in status. Such evaluations will take into account the following:

• The biological recovery criteria (Ruckelshaus et al., 2006) and listing factor (threats) criteria described in the Supplement.

• The management programs in place to address the threats.

• Principles presented in the Viable Salmonid Populations paper (McElhany et al. 2000).

• Co-managers' interim stock-level recovery goals.

• Best available information on population and ESU status and new advances in risk evaluation methodologies.

• Other considerations, including: the number and status of extant spawning groups; the status of the major spawning groups; linkages and connectivity among groups; diversity groups and the two populations; the diversity of life history and phenotypes expressed; and considerations regarding catastrophic risk.

• Principles laid out in NMFS' Hatchery Listing Policy (70 FR 37204, June 28, 2005).

Public Comments Solicited

NMFS solicits written comments on the proposed Recovery Plan, including the Supplement. The Supplement states NMFS' assessment of the Plan's relationship to ESA requirements for recovery plans and specifies recovery (de-listing) criteria for the ESU. The Supplement also explains the agency's intent to use the Plan to guide and prioritize Federal actions in the ESU and to ultimately adopt the Plan as a final Federal recovery plan for the ESU. All substantive comments received by the date specified above will be considered prior to NMFS' decision whether to endorse the Plan as a final recovery plan. Additionally, NMFS will provide a summary of the comments and responses through its regional Web site and provide a news release for the public announcing the availability of the response to comments. NMFS seeks comments particularly in the following areas: (1) the analysis of limiting factors and threats; (2) the recovery strategies and measures; (3) the criteria for removing the ESU from the Federal list of endangered and threatened wildlife and plants; and (4) meeting the ESA requirement for estimates of time and cost to implement recovery actions by soliciting implementation schedules (see discussion in the Supplement).

References

Correa, G. 2002. Salmon and Steelhead Habitat Limiting Factors. Water Resource Inventory Area 17. Quilcene-Snow Basin. Washington State Conservation Commission. Final Report. November 2002. 316 p.

2003. Salmon and Steelhead Habitat Limiting Factors. Water Resource Inventory Area 16. Dosewallips-Skokomish Basin. Washington State Conservation Commission. Final Report. November 2002. 257 p.

Currens, K. 2004. Identification of independent populations of summer chum salmon and their recovery targets. January 29, 2004, draft document. Northwest Fisheries Science Center. NOAA Fisheries. Seattle, Washington. 18p.

Good, T.P., R.S. Waples, and P. Adams (editors). 2005. Updated status of Federally listed ESUs of West Coast salmon and steelhead. U.S. Dept. Commer., NOAA Tech. Memo. NMFS-NWFSC-66, 598 p.

Kuttel, M., Jr. 2003. Salmon and Steelhead Habitat Limiting Factors. Water Resource Inventory Areas 15 (West), Kitsap Basin and 14 (North) Kennedy-Goldsborough Basin. Washington State Conservation Commission. Final Report. June 2003. 312 p.

McElhany, P., M. H. Ruckelshaus, M. J. Ford, T. C. Wainwright, E. P. Bjorkstedt. 2000. Viable salmon populations and the recovery of evolutionarily significant units. U.S. Dept. of Commerce, NOAA Tech. Memo., NMFS-NWFSC-42, 156 p.

Point No Point Treaty Tribes (PNPTT) and Washington Department of Fish and Wildlife (WDFW). 2003. Summer chum salmon conservation initiative - an implementation plan to recover summer chum salmon in the Hood Canal and Strait of Juan de Fuca region.

Supplemental report No. 5. Report on summer chum salmon interim recovery goals. Washington Department of Fish and Wildlife. Olympia, Washington.

Washington Department of Fish and Wildlife. Olympia, Washington. Ruckelshaus, M.H., K. Currens, R. Fuerstenberg, W. Graeber, K. Rawson, N.J. Sands, K.J. Scott. 2003. Integrated Recovery Planning for Listed Salmon: Technical Guidance for Watershed Groups in Puget Sound. Puget Sound Technical Recovery Team.

Ruckelshaus, M.H., N.J. Sands, K. Rawson, K. Currens, R. Fuerstenberg, W. Graeber, J. Scott. 2006. Hood Canal Summer Chum Viability White Paper, Draft available from Puget Sound TRT upon request. May 5, 2006

Washington Department of Fish and Wildlife (WDFW) and the Point No Point Treaty Tribes (PNPTT). 2000. Summer chum salmon conservation initiative - an implementation plan to recover summer chum in the Hood Canal and Strait of Juan de Fuca region. Fish Program, Washington Department of Fish and Wildlife. Olympia, Washington. 424p. plus three appendices.

2003. Summer chum salmon conservation initiative - an implementation plan to recover summer chum in the Hood Canal and Strait of Juan de Fuca region. Supplemental report No. 3. Annual report for the 2000 summer chum salmon return to the Hood Canal and Strait of Juan de Fuca region. Washington Department of Fish and Wildlife, Olympia, Washington. 123 p.

Authority: 16 U.S.C. 1531 et seq.

Dated: August 11, 2006.
Angela Somma,
Chief, Endangered Species Division, Office of Protected Resources, National Marine Fisheries Service.

[FR Doc. E6-13463 Filed 8-15-06; 8:45 am]

BILLING CODE 3510-22-S